DEPARTMENT OF ENERGY

Federal Energy Regulatory Commission

[Docket No. OR13-28-000]

St. Paul Park Refining Co. LLC v. Enbridge Pipelines (North Dakota) LLC; Notice of Complaint

Take notice that on July 25, 2013, St. Paul Park Refining Co. LLC (Complainant) filed a formal complaint against Enbridge Pipelines (North Dakota) LLC (Respondent) pursuant to sections 1(5), 3(1), 8, 9, 13(1), 15(1), and 16(1) of the Interstate Commerce Act (ICA), 49 USC App. 1(5), 3(1), 8, 9, 13(1), 15(1), and 16(1), Rule 206 of the Commission's Rules of Practice and Procedure, 18 CFR 385.206, and section 343.1(a) of the Commission's Procedural Rules Applicable to Oil Pipeline Proceedings, 18 CFR 343.1(a), alleging that the settlement agreement dealing with the Phase 6 Expansion Project of Enbridge Pipelines (North Dakota) LLC is no longer fair and reasonable and that the surcharge derived from the Settlement Agreement no longer has any regulatory basis.

St. Paul Park Refining Co. LLC certifies that copies of the complaint were served on the contacts for Enbridge Pipelines (North Dakota) LLC as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on August 14, 2013.

Dated: July 26, 2013.
Kimberly D. Bose,
Secretary.

[FR Doc. 2013-18588 Filed 8-1-13; 8:45 am]

BILLING CODE 6717-01-P